DEPARTMENT OF AGRICULTURE

Notice of Request for Information for Refined Sugar; Correction

AGENCY: Foreign Agricultural Service, Department of Agriculture.

ACTION: Notice; correction.

SUMMARY: The Foreign Agricultural Service, Department of Agriculture, published a document in the Federal Register on December 15, 2025, concerning public input, including comments from stakeholders involved directly or indirectly in the importation of refined sugar. The document contained the incorrect comment period end date.

SUPPLEMENTARY INFORMATION:

Correction

In the Federal Register of December 15, 2025, in FR Doc 2025-22717, on page 57941, in the second column, correct the Date: to read January 14, 2026.

Daniel B. Whitley,
Administrator, Foreign Agricultural Service.

[FR Doc. 2025-23604 Filed 12-19-25; 8:45 am]

BILLING CODE 3410-10-P